DEPARTMENT OF THE TREASURY

Office of Foreign Assets Control

Sanctions Actions Pursuant to the Sergei Magnitsky Rule of Law Accountability Act of 2012

AGENCY: Office of Foreign Assets Control, Treasury.

ACTION: Notice.

SUMMARY: The Treasury Department's Office of Foreign Assets Control (“OFAC”) is publishing the names of five individuals whose property and interests in property are blocked pursuant to the Sergei Magnitsky Rule of Law Accountability Act of 2012 (Pub. L. 112-208, December 14, 2012) (the “Magnitsky Act”).

DATES: OFAC's actions described in this notice were effective on February 1, 2016.

FOR FURTHER INFORMATION CONTACT: The Department of the Treasury's Office of Foreign Assets Control: Assistant Director for Licensing, tel.: 202-622-2480, Assistant Director for Policy, tel.: 202-622-2746, Assistant Director for Regulatory Affairs, tel.: 202-622-4855, Assistant Director for Sanctions Compliance & Evaluation, tel.: 202-622-2490; or the Department of the Treasury's Chief Counsel (Foreign Assets Control), Office of the General Counsel, tel.: 202-622-2410.

SUPPLEMENTARY INFORMATION:

Electronic and Facsimile Availability

This document and additional information concerning OFAC are available from OFAC's Web site (www.treasury.gov/ofac). Certain general information pertaining to OFAC's sanctions programs is available via facsimile through a 24-hour fax-on-demand service, tel.: 202/622-0077.

Background

On February 1, 2016, OFAC blocked the property and interests in property of the following five individuals pursuant to the Magnitsky Act:

1. KIBIS, Boris Borisovich; DOB 20 Nov 1977; nationality Russia (individual) [MAGNIT].

2. URZHUMTSEV, Oleg Vyacheslavovich; DOB 22 Oct 1968; citizen Russia (individual) [MAGNIT].

3. LAPSHOV, Pavel Vladimirovich; DOB 07 Jul 1976; nationality Russia (individual) [MAGNIT].

4. ANTONOV, Yevgeni Yuvenalievich; DOB 1955; nationality Russia (individual) [MAGNIT].

5. ANICHIN, Aleksey Vasilyevich (a.k.a. ANICHIN, Alexei Vasilievich); DOB 01 Dec 1949; POB Sevastopol, Ukraine (individual) [MAGNIT].

Aleksey Vasilyevich Anichin participated in efforts to conceal the legal liability for the detention, abuse, or death of Sergei Magnitsky.

Yevgeni Yuvenalievich Antonov is responsible for extrajudicial killings, torture, or other gross violations of internationally recognized human rights committed against an individual seeking to obtain, exercise, defend, or promote internationally recognized human rights and freedoms, such as the freedoms of religion, expression, association, and assembly, and the rights to a fair trial and democratic elections, in Russia.

Boris Borisovich Kibis participated in efforts to conceal the legal liability for the detention, abuse, or death of Sergei Magnitsky.

Pavel Vladimirovich Lapshov participated in efforts to conceal the legal liability for the detention, abuse, or death of Sergei Magnitsky.

Oleg Vyacheslavovich Urzhumtsev participated in efforts to conceal the legal liability for the detention, abuse, or death of Sergei Magnitsky.

Dated: February 3, 2016.
John E. Smith,
Acting Director, Office of Foreign Assets Control.

[FR Doc. 2016-02436 Filed 2-8-16; 8:45 am]

BILLING CODE 4810-AL-P